DEPARTMENT OF VETERANS AFFAIRS

Privacy Act of 1974

AGENCY: Department of Veterans Affairs (VA).

ACTION: Notice of amendment to a system of records.

SUMMARY: The Privacy Act of 1974, 5 U.S.C. 552(a)(e) requires that all agencies publish in the Federal Register a notice of the existence and character of their systems of records. Notice is hereby given that the Department of Veterans Affairs (VA), Office of Human Resources Management, is amending a current system of records entitled “Individuals Serving on a Fee Basis or Without Compensation (Consultants, Attendings, and Others) Personnel Records-VA” (14VA135).

The information in this system will be used to evaluate the qualifications of physicians, dentists, nurses, and approximately 30,000 health occupation trainees, research personnel and other scientific and technical personnel appointed under 38 U.S.C. 7406, whose stipends and fringe benefits are not centrally administered under the provisions of 38 U.S.C. 7406(c).

The documents maintained in this system include copies of applications, appointment letters, and other documents and papers kept in connection with these appointments. These records are maintained for a period of one year from the expiration of appointment and then destroyed.

DATES: Comments on the amendment of this system of records must be received no later than December 20, 2010. If no public comment is received, the amended system will become effective December 20, 2010.

ADDRESSES: Written comments concerning the proposed amended system of records may be submitted to the Office of Regulations Management (02REG), Department of Veterans Affairs, 810 Vermont Avenue, NW., Washington, DC 20420; or fax comments to (202) 273-9026; or e-mail comments to http://www.Regulations.gov. All relevant material received before December 20, 2010 will be considered. Comments will be available for public inspection at the above address in the Office of Regulations Management, Room 1068, between the hours of 8 a.m. and 4:30 pm, Monday through Friday (except holidays). Please call (202) 461-4902 (This is not a toll-free number) for an appointment. In addition, during the comment period, comments may be viewed on-line through the Federal Docket Management System (FDMS) at http://www.Regulations.gov .

FOR FURTHER INFORMATION CONTACT: Department of Veterans Affairs, Office of Human Resources Management (05), Privacy Officer, 810 Vermont Avenue, NW., Washington, DC 20420, telephone (202) 461-7863.

SUPPLEMENTARY INFORMATION: “Individuals Serving on a Fee Basis or Without Compensation (Consultants, Attendings, and Others) Personnel Records-VA” (14VA135) has been amended to “Individuals Serving on a Fee Basis or Without Compensation (Consultants, Attendings, and Others or Paid Indirectly through a Disbursement Agreement) Personnel Records-VA (14VA05). The change in system name and number is to reflect the ownership and to incorporate records of health occupations trainees paid indirectly through disbursement agreements by the Department. The routine uses for this system of records has been updated and revised to include “health occupations trainees.” VA is republishing the system notice in its entirety.

The notice of intent to publish and an advance copy of the system notice have been sent to the appropriate Congressional Committees and to the Director of the Office of Management and Budget (OMB) as required by 5 U.S.C. 552a(r) (Privacy Act) and guidelines issued by OMB (65 FR 77677), December 12, 2000.

Approved: October 21, 2010.
John R. Gingrich,
Chief of Staff, Department of Veteran Affairs.

14VA05

SYSTEM NAME:

“Individuals Serving on a Fee Basis or Without Compensation (Consultants, Attendings, and Others or Paid Indirectly Through a Disbursement Agreement) Personnel Records-VA”

SYSTEM LOCATION:

Department of Veterans Affairs, Human Resources Management Offices.

CATEGORIES OF INDIVIDUALS COVERED BY THE SYSTEM:

Physicians, dentists and nurses; health occupations trainees including residents appointed under 38 U.S.C. 7406 whose stipends and fringe benefits are centrally administered under the provisions of 38 U.S.C. 7406(c); research personnel; other scientific and technical personnel.

CATEGORIES OF RECORDS IN THE SYSTEM:

Copies of applications, appointment letters, other documents and papers maintained in connection with these appointments.

All categories of records may include identifying information, such as names(s), date of birth, home address, mailing address, Social Security Number(s), and telephone number(s). Records in this system are:

Reflecting work experience, licensure, credentials, educational-level achieved, and specialized education or training occurring outside of Federal service.

Government-sponsored training or participation in employee development programs designed to broaden an employee's work experiences or for the purposes of advancement.

AUTHORITY FOR MAINTENANCE OF THE SYSTEM:

Title 38, United States Code, Chapter 73.

PURPOSE(S):

The information in this system is used to evaluate the qualifications of approximately 30,000 medical residents appointed under 38 U.S.C. 7406 whose stipends and fringe benefits are not centrally administered under the provisions of 38 U.S.C. 7406(c).

ROUTINE USES OF RECORDS MAINTAINED IN THE SYSTEM, INCLUDING CATEGORIES OF USERS AND THE PURPOSES OF SUCH USES:

1. To disclose the information listed in 5 U.S.C. 7114(b)(4) to officials of labor organizations recognized under 5 U.S.C. Chapter 71 when relevant and necessary to their duties of exclusive representation concerning personnel policies, practices, and matters affecting working conditions.

2. To disclose to the Federal Labor Relations Authority (including its General Counsel) information related to the establishment of jurisdiction, the investigation and resolution of allegations of unfair labor practices, or information in connection with the resolution of exceptions to arbitration awards when a question of material fact is raised; to disclose information in matters properly before the Federal Services Impasses Panel, and to investigate representation petitions and conduct or supervise representation elections.

3. Disclosure may be made to individuals, organizations, private or public agencies, or other entities or individuals with whom VA has a contract or agreement to perform such services as VA may deem practicable for the purposes of laws administered by VA, in order for the contractor, subcontractor, public or private agency, or other entity or individual with whom VA has an agreement or contract to perform the services of the contract or agreement. This routine use includes disclosures by the individual or entity performing the service for VA to any secondary entity or individual to perform an activity that is necessary for individuals, organizations, private or public agencies, or other entities or individuals with whom VA has a contract or agreement to provide the service to VA.

4. To disclose information to officials of the Merit Systems Protection Board, or the Office of the Special Counsel, when requested in connection with appeals, special studies of the civil service and other merit systems, review of rules and regulations, investigation of alleged or possible prohibited personnel practices, and such other functions, promulgated in 5 U.S.C. 1205 and 1206, or as may be authorized by law.

5. VA may, on its own initiative, disclose any information or records to appropriate agencies, entities, and persons under the following circumstances: when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or program (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

6. To disclose information to the Equal Employment Opportunity Commission when requested in connection with investigations of alleged or possible discriminatory practices, examination of Federal affirmative employment programs, or for other functions of the Commission as authorized by law or regulation.

7. VA may disclose on its own initiative any information in this system, except the names and home addresses of veterans and their dependents, which is relevant to a suspected or reasonably imminent violation of law, whether civil, criminal or regulatory in nature and whether arising by general or program statute or by regulation, rule or order issued pursuant thereto, to a Federal, State, local, Tribal, or foreign agency charged with the responsibility of investigating or prosecuting such violation, or charged with enforcing or implementing the statute, regulation, rule or order. On its own initiative, VA may also disclose the names and addresses of veterans and their dependents to a Federal agency charged with the responsibility of investigating or prosecuting civil, criminal or regulatory violations of law, or charged with enforcing or implementing the statute, regulation, rule or order issued pursuant thereto.

8. VA may disclose information from this system to the National Archives and Records Administration (NARA) and General Services Administration (GSA) in records management inspections conducted under Title 44, Chapter 29, of the U.S. Code.

9. A record from this system of records may be disclosed as a `routine use' to a Federal, State or local agency maintaining civil, criminal or other relevant information, such as current licenses, if necessary to obtain information relevant to an agency decision concerning the hiring or retention of an employee or health professions trainee, the issuance of a security clearance, the letting of a contract, or the issuance of a license, grant or other benefits.

10. A record from this system of records may be disclosed to a Federal agency, in response to its request, in connection with the hiring or retention of an employee or health professions trainee, the issuance of a security clearance, the reporting of an investigation of an employee or health professions trainee, the letting of a contract, or the issuance of a license, grant, or other benefit by the requesting agency, to the extent that the information is relevant and necessary to the requesting agency's decision on the matter.

11. Disclosure may be made to a congressional office from the record of an individual in response to an inquiry from the congressional office made at the request of that individual.

12. Records from this system of records may be disclosed to a Federal agency or to a State or local government licensing board and/or to the Federation of State Medical Boards or a similar non-government entity which maintains records concerning individuals' employment histories or concerning the issuance, retention or revocation of licenses, certifications, or registration necessary to practice an occupation, profession or specialty in order for the agency to obtain information relevant to an agency decision concerning the hiring, retention or termination of an employee or health professions trainee or to inform a Federal agency or licensing boards or the appropriate non-government entities about the health care practices of a terminated, resigned or retired health care employee or health professions trainee whose professional health care activity so significantly failed to conform to generally accepted standards of professional medical practice as to raise reasonable concern for the health and safety of patients in the private sector or from another Federal agency. These records may also be disclosed as part of an ongoing computer matching program to accomplish these purposes.

13. Identifying information in this system, including name, address, social security number and other information as is reasonably necessary to identify such individual, may be disclosed to the National Practitioner Data Bank at the time of hiring and/or clinical privileging/reprivileging of health care practitioners, and other times as deemed necessary by VA, in order for VA to obtain information relevant to a Department decision concerning the hiring, privileging/reprivileging, retention or termination of the applicant or employee, or health professions trainees.

14. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

15. Allows disclosure of relevant health care information to individuals or organizations (private or public) with whom VA has a contract or sharing agreement for the provision of health care, administrative or financial services. VA must be able to share information with other organizations participating in the care of veterans.

16. Relevant information from this system of records may be disclosed to the National Practitioner Data Bank and/or State Licensing Board in State(s) in which a practitioner is licensed, in which the VA facility is located, and/or in which an act or omission occurred concerning:

(1) Any payment for the benefit of a physician, dentist, or other licensed health care practitioner which was made as the result of a settlement or judgment of a claim of medical malpractice if an appropriate determination is made in accordance with agency policy that payment was related to substandard care, professional incompetence or professional misconduct on the part of the individual;

(2) A final decision which relates to possible incompetence or improper professional conduct that adversely affects the clinical privileges of a physician or dentist for a period longer than 30 days; or,

(3) The acceptance of the surrender of clinical privileges or any restriction of such privileges by a physician or dentist either while under investigation by a healthcare entity relating to possible incompetence or improper professional conduct or in return for not conducting such an investigation or proceeding. These records may also be disclosed as part of a computer matching program to accomplish these purposes.

17. Allows disclosure of information from this system of records to the following:

a. Government training facilities (Federal, State, and local) and to non-government training facilities (private vendors of training courses or programs, private schools, etc.) for training purposes.

b. Educational institutions about the appointment of their recent graduates to VA positions. These disclosures are made to enhance recruiting relationships between VA and these institutions.

c. College and university officials with information about students who are working at VA to receive academic credit for the experience.

POLICIES AND PRACTICES FOR STORING, RETRIEVING, ACCESSING, RETAINING, AND DISPOSING OF RECORDS IN THE SYSTEM:

STORAGE:

Records are maintained on paper documents, magnetic tape and computer printouts at VA facilities and VA Office of Academic Affiliation Data Management Center.

RETRIEVABILITY:

Records are retrieved by the names and personal identifiers assigned to the individuals on whom they are maintained.

SAFEGUARDS:

Electronic files are password protected and accessible only by authorized persons. Access to VA working and storage areas is restricted on a “need-to-know” basis; strict control measures are enforced to ensure that disclosure to these individuals is also based on this same principle. Generally, VA file areas are locked after normal duty hours and the facilities are protected from outside access by the Federal Protective Service or other security personnel.

RETENTION AND DISPOSAL:

Paper records and information stored on electronic storage media are maintained and disposed of in accordance with records disposition authority approved by the National Archives and Records Administration.

SYSTEMS MANAGER(S) AND ADDRESS:

Officials maintaining the policy and procedures: Human Resources Management Offices (135) where this system is utilized. (See VA Appendix 1 for local addresses.) Officials responsible for policies and procedures: Deputy Assistant Secretary for Human Resources Management (05), VA Central Office, Washington, DC 20420. Officials maintaining the system: Directors at the facility where the individual(s) were associated and the Chief Academic Affiliations Officer (14), Department of Veterans Affairs, Veterans Health Administration, 810 Vermont Avenue, NW., Washington, DC 20420.

NOTIFICATION PROCEDURE:

Individuals who wish to determine whether this system of records contains information about them should contact the VA facility at the location where they made application. For a record pertaining to the individual, they must submit a written request to the Privacy Officer or VA human resources office of the last place of employment.

RECORD ACCESS PROCEDURES:

Individuals who wish to determine whether this system of records contains information about them should contact the Privacy Officer at the VA facility where they made application. Individuals must submit a written request to the Privacy Officer or to the VA Office of Human Resources Management or to the VA facility of the last place of employment for former employees.

CONTESTING RECORD PROCEDURES:

See “Notification procedure” above.

RECORDS SOURCES CATEGORIES:

Records in this system are obtained from: applicants, VA officials and from individuals and organizations regarding the individual's qualifications; credentials and suitability for employment, including prior employers, academic organizations, State licensing boards and/or national certifying bodies, law enforcement entities, and health care providers.

[FR Doc. 2010-29088 Filed 11-17-10; 8:45 am]

BILLING CODE 8320-01-P